DEPARTMENT OF COMMERCE

Submission for OMB Review; Comment Request.

DOC has submitted to the Office of Management and Budget (OMB) for clearance the following proposal for collection of information under the provisions of the Paperwork Reduction Act of 1995 (44 U.S.C. Chapter 35).

Bureau: International Trade Administration (ITA).

Title: Information for Certification Under FAQ 6 of the Safe Harbor Privacy Principles.

Agency Form Number: None.

OMB Number: None.

Type of Request: Emergency submission.

Burden Hours: 550.

Number of Respondents: 1,500.

Average Hours Per Response: 20-40 minutes.

Needs and Uses: In response to the European Commission Directive on Data Protection that restricts transfers of personal information from Europe to countries whose privacy practices are not deemed “adequate,” the U.S. Department of Commerce has developed a “safe harbor” framework that will allow U.S. organizations to satisfy the European Directive's requirements and ensure that personal data flows to the United States are not interrupted. In this process, the Department of Commerce repeatedly consulted with U.S. organizations affected by the European directive and interested non-government organizations. On July 27, 2000, the European Commission issued its decision in accordance with Article 25.6 of the Directive that the Safe Harbor Privacy Principles provide adequate privacy protection. The safe harbor framework bridges the differences between the European Union (EU) and U.S. approaches to privacy protection. Once the safe harbor was deemed “adequate” by the European Commission on July 27, 2000, the Department of Commerce began working on the requirements that are necessary to put this accord into effect. The European Member States have 90 days to implement any decision made by the Commission. Therefore the safe harbor will become operational at the end of October, and the U.S. Government needs to be prepared. There are two sets of requirements that must be completed before the 90 days have passed: creation of a list for U.S. organizations to sign up to the safe harbor and guidance on the mechanics of signing up to this list. If the safe harbor is to be operational by the start date (end of October) companies must be able to sign up before then. This list will be used by EU organizations to determine whether further information and contracts will be needed for a U.S. organization to receive personally identifiable information. This list is necessary to make the safe harbor accord operational, and was a key demand of the Europeans in agreeing that the Principles were providing “adequate” privacy protection.

Affected Public: Business or other for-profit organizations.

Frequency: Annually.

Respondent?s Obligation: Voluntary.

OMB Desk Officer: David Rostker, (202) 395-3897.

Copies of the above information collection proposal can be obtained by calling or writing Madeleine Clayton, Departmental Forms Clearance Officer, (202) 482-3129, Department of Commerce, Room 6086, 14th and Constitution, NW, Washington, DC 20230 (or via the Internet MClayton@doc.gov).

Written comments and recommendations for the proposed information collection should be sent to David Rostker, OMB Desk Officer, Room 10202, New Executive Office Building, Washington, DC 20503.

Dated: August 23, 2000.
Madeleine Clayton,
Departmental Forms Clearance Officer, Office of the Chief Information Officer.

[FR Doc. 00-21891 Filed 8-25-00; 8:45 am]

BILLING CODE 3510-DR-P